NUCLEAR REGULATORY COMMISSION

[Docket Nos. 50-272, 50-311, and 50-354]

PSEG Nuclear LLC, Exelon Generation Company, LLC; Notice of Partial Withdrawal of Application for Amendments to Facility Operating Licenses

The U.S. Nuclear Regulatory Commission (the Commission) has granted the request of PSEG Nuclear LLC (the licensee) to withdraw a portion of its March 5, 2001, application, for proposed amendments to Facility Operating License (FOL) Nos. DPR-70 and DPR-75 for the Salem Nuclear Generating Station, Unit Nos. 1 and 2 (Salem), and FOL No. NPF-57 for the Hope Creek Generating Station (HCGS), located in Salem County, New Jersey.

The proposed amendments would revise License Condition 2.E in each of the respective FOLs to reflect the NRC's approval of changes to the Salem-Hope Creek Security Plan and the Salem-Hope Creek Security Training and Qualification Plan.

On December 17, 2001, the licensee submitted a letter to the NRC requesting withdrawal of the portion of the proposed change pertaining to escort of vehicles within the protected area.

The Commission had previously issued a Notice of Consideration of Issuance of Amendment to Facility Operating License, Proposed No Significant Hazards Consideration Determination, and Opportunity for a Hearing published in the Federal Register for Salem on June 27, 2001 (66 FR 34288), and for HCGS on July 11, 2001 (66 FR 36343). For further details with respect to this action, see the application for amendments dated March 5, 2001, and the licensee's letter dated December 17, 2001, which withdrew a portion of the application for license amendments. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS, should contact the NRC Public Document Room (PDR) Reference staff by telephone at 1-800-397-4209, 301-415-4737 or by email to pdr@nrc.gov.

Dated at Rockville, Maryland, this 22nd day of February, 2002.
For the Nuclear Regulatory Commission.
Richard B. Ennis,
Sr. Project Manager, Section 2, Project Directorate I, Division of Licensing Project Management, Office of Nuclear Reactor Regulation.

[FR Doc. 02-5554 Filed 3-7-02; 8:45 am]

BILLING CODE 7590-01-P